NUCLEAR REGULATORY COMMISSION

10 CFR Part 72

RIN 3150-AG83

List of Approved Spent Fuel Storage Casks: NAC-MPC Revision; Confirmation of Effective Date

AGENCY: Nuclear Regulatory Commission.

ACTION: Direct final rule; confirmation of effective date.

SUMMARY: The Nuclear Regulatory Commission (NRC) is confirming the effective date of November 13, 2001, for the direct final rule that appeared in the Federal Register of August 30, 2001 (66 FR 45749). This direct final rule amended the NRC's regulations by revising the NAC-MPC cask system listing within the “List of Approved Spent Fuel Storage Casks” to include Amendment No. 1 to Certificate of Compliance No. 1025. This document confirms the effective date.

DATES: The effective date of November 13, 2001, is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Jayne M. McCausland, Office of Nuclear Material Safety and Safeguards, U.S. Nuclear Regulatory Commission, Washington, DC 20555, Telephone (301) 415-6219 (E-mail: jmm2@nrc.gov).

SUPPLEMENTARY INFORMATION: On August 30, 2001 (66 FR 45749), the NRC published in the Federal Register a direct final rule amending its regulations in 10 CFR part 72 by revising the NAC-MPC cask system listing within the “List of Approved Spent Fuel Storage Casks” to include Amendment No. 1 to Certificate of Compliance No. 1025. Amendment No. 1 modifies the present cask system design to permit a licensee to use an alternate fuel basket design with enlarged fuel tubes in corner locations; increase the operational time limits provided in the Technical Specifications for canister loading, closure, and transfer when canister heat loads are lower than design basis heat loads; revise the canister surface contamination limits in Technical Specifications to maintain worker dose as low as is reasonably achievable; and revise some drawings to reflect changes identified during cask and component fabrication under a general license. In the direct final rule, NRC stated that if no significant adverse comments were received, the direct final rule would become final on the date noted above. The NRC did not receive any comments that warranted withdrawal of the direct final rule. Therefore, this rule will become effective as scheduled.

For the Nuclear Regulatory Commission.
Dated at Rockville, Maryland, this 14th day of November, 2001.
Michael T. Lesar,
Chief, Rules and Directives Branch, Division of Administrative Services, Office of Administration.

[FR Doc. 01-28922 Filed 11-19-01; 8:45 am]

BILLING CODE 7590-01-P